DEPARTMENT OF JUSTICE

Office of Justice Programs

[OMB Number 1121-0188]

Agency Information Collection Activities: Proposed Collection; Comment Request

ACTION: 30-Day notice of information collection under review; Extension without change of a currently approved collection.

Budget Detail Worksheet

The Department of Justice, Office of Justice Programs, Office of the Comptroller, will be submitting the following information collection request for review and clearance in accordance with the Paperwork Reduction Act of 1995. This proposed information collection is published to obtain comments from the public and affected agencies. The proposed information collection was previously published in the Federal Register, Volume 74, Number 180, page 47960-47961 on September 18, 2009, allowing for a 60-day comment period.

The purpose of this notice is to allow for an additional 30 days for public comment until January 14, 2010. This process is conducted in accordance with 5 CFR 1320.10.

If you have additional comments, suggestions, or need a copy of the proposed information collection instrument with instructions or additional information, please contact Marcia K. Paull, Chief Financial Officer at (202) 353-2820, Office of the Chief Financial Officer, Office of Justice Programs, U.S. Department of Justice, 810 7th Street, NW., Washington, DC 20531.

Written comments and suggestions from the public and affected agencies concerning the proposed collection of information should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: Extension without change of a currently approved collection.

(2) The title of the form/collection: Budget Detail Worksheet.

(3) The agency form number, if any, and the applicable component of the Department sponsoring the collection: Non-applicable.

(4) Affected public who will be asked or required to respond, as well as a brief abstract: Primary: All potential grantee partners who are possible recipients of our discretionary grant programs. The eligible recipients include state and local governments, Indian tribes, profit entities, non-profit entities, educational institutions, and individuals.

The form is not mandatory and is recommended as a guide to assist the recipient in preparing the budget narrative as authorized in 28 CFR parts 66 and 70.

(5) An estimate of the total number of respondents and the amount of time estimated for an average respondent to respond/reply: It is estimated that 2,500 respondents will complete a 4-hour form.

(6) An estimate of the total public burden (in hours) associated with the collection: The total hour burden to complete the forms is 10,000 annual burden hours.

If additional information is required contact: Ms. Lynn Bryant, Department Clearance Officer, United States Department of Justice, Justice Management Division, Policy and Planning Staff, 601 D Street, NW., Suite 1600, Washington, DC 20530.

Dated: December 9, 2009.
Lynn Bryant,
Department Clearance Officer, PRA, United States Department of Justice.

[FR Doc. E9-29746 Filed 12-14-09; 8:45 am]

BILLING CODE 4410-18-P